DEPARTMENT OF DEFENSE

Office of the Secretary

Notice of Amendment No. 001 to the Solicitation for Cooperative Agreement Applications (SCAA) Issued on April 12, 2011 and Amendment No. 005 to the SCAA Issued on July 7, 2010

AGENCY: Defense Logistics Agency, DoD.

ACTION: Amended solicitations for cost sharing cooperative agreement applications.

SUMMARY: The Defense Logistics Agency (DLA) executes the Department of Defense (DoD) Procurement Technical Assistance Program by awarding cost sharing cooperative agreements to assist States, local governments, private nonprofit organizations, tribal organizations and economic enterprises in establishing or maintaining procurement technical assistance centers (PTACs) pursuant to Chapter 142 of title 10, United States Code.

DLA amended the Solicitation for Cooperative Agreement Applications (SCAA) issued July 7, 2010 (Amendment No. 005), which is applicable to States, local governments, private nonprofit organizations, and the SCAA issued April 12, 2011 (Amendment No. 001), which is applicable to Economic Enterprises and Tribal Organizations defined in 10 U.S.C. § 2411(1)(D), to allow acceptance of applications for new programs in fiscal year (FY) 2012. For FY 2012, new applications will only be considered from entities proposing to provide service to an area that will not be covered by an existing program. Applications proposing to duplicate any portion of the service area of an existing program will neither be accepted nor considered.

The Amendments issued identify significant areas that are not covered or are expected to become uncovered in FY 2012. However, not all uncovered areas are identified. Any entity contemplating submitting an application, including those that propose to service an area identified, must first submit the inquiry, which is discussed in each Amendment, to ascertain if the proposed area is covered.

Funding of new programs for FY 2012 is contingent on the availability of funds. In addition, awards may not be made to all acceptable applicants. Award decisions will optimize the use of program funds while at the same time maximizing the availability of procurement technical assistance. DLA will make funding decisions on a case-by-case basis and in the best interest of the overall program. An award decision for any application submitted pursuant to the Amendments issued will be made prior to October 1, 2012.

Solicitations and Amendments are available at http://www.dla.mil/SmallBusiness/Pages/SCAA.aspx. Additional details regarding these opportunities are provided in the Amendments. Printed copies are not available for distribution. Applications must be submitted to DLA by 5 p.m., Eastern Daylight Time, on June 7, 2012. Notwithstanding any other provision in the SCAA or in previous Amendments, late applications will be neither accepted nor evaluated.

FOR FURTHER INFORMATION CONTACT: DLA Office of Small Business Programs at PTAP@DLA.MIL.

Dated: March 9, 2012.
Aaron Siegel,
Alternate OSD Federal Register Liaison Officer, Department of Defense.

[FR Doc. 2012-6204 Filed 3-14-12; 8:45 am]

BILLING CODE 5001-06-P